LEGAL SERVICES CORPORATION

Request for Letters of Intent To Apply for 2016 Technology Initiative Grant Funding; Correction

AGENCY: Legal Services Corporation.

ACTION: Correction Notice.

SUMMARY: On January 20, 2016, the Legal Services Corporation (LSC) published a notice in the Federal Register (81 FR 3162) titled “Request for Letters of Intent To Apply for 2015 Technology Initiative Grant Funding.” The title to this notice contained a typographical error. This document corrects the notice by revising the title.

DATES: This correction is effective January 20, 2016

FOR FURTHER INFORMATION CONTACT: Mark Freedman, Senior Associate General Counsel, Legal Services Corporation, 3333 K Street NW., Washington, DC 20007; (202) 295-1500; mfreedman@lsc.gov.

SUPPLEMENTARY INFORMATION: The title should read “Request for Letters of Intent to Apply for 2016 Technology Initiative Grant Funding.”

Dated: January 27, 2016.
Katherine Ward,
Executive Assistant to the Vice President for Legal Affairs and General Counsel.

[FR Doc. 2016-01765 Filed 1-29-16; 8:45 am]

BILLING CODE 7050-01-P